DEPARTMENT OF COMMERCE

National Oceanic and Atmospheric Administration

[RTID 0648-XC183]

Request for Information on Research in Dedicated Habitat Research Areas; Fisheries of the Northeastern United States; Essential Fish Habitat

AGENCY: National Marine Fisheries Service (NMFS), National Oceanic and Atmospheric Administration (NOAA), Commerce.

ACTION: Notice; request for information.

SUMMARY: NMFS is requesting information about ongoing and proposed research in the Stellwagen and Georges Bank Dedicated Habitat Research Areas, which were established in 2018. The regulations require the NMFS Regional Administrator to initiate a review, consult with the New England Fishery Management Council about, and evaluate the use of the Dedicated Habitat Research Areas 3 years after their establishment. This action is intended to collect information to support the review of the Dedicated Habitat Research Areas and to determine whether they should be maintained. Response to this request for information is voluntary.

DATES: Interested persons are invited to submit comments on or before August 19, 2022.

ADDRESSES: You may submit written comments by the following method:

• Email: Laura.Deighan@noaa.gov. Include in the subject line “DHRA Research.”

FOR FURTHER INFORMATION CONTACT: Laura Deighan, Fishery Management Specialist, Laura.Deighan@noaa.gov, (978) 281-9184.

SUPPLEMENTARY INFORMATION: In Omnibus Essential Fish Habitat Amendment 2 (OHA2), the New England Fishery Management Council adopted the Stellwagen and Georges Bank Dedicated Habitat Research Areas (DHRA) to better understand how habitat management measures influence stock productivity and to allow for the design of more effective conservation measures in future actions (83 FR 15240; April 9, 2018). The regulations at 50 CFR 648.371 codify the Stellwagen DHRA, which prohibits fishing with bottom-tending mobile gear, sink gillnet gear, or demersal longline gear, unless otherwise exempted, and the Georges Bank DHRA, which prohibits bottom-tending mobile gear, unless otherwise exempted.

The regulations require the NMFS Regional Administrator to initiate a review, consult with the New England Fishery Management Council about, and evaluate the use of the DRHAs beginning 3 years after their establishment to determine if they should be maintained. Criteria used to evaluate whether the DHRAs may continue include documented active and ongoing research in the form of data records, cruise reports, or inventory of samples, approved research proposals, or funding requests for pending research. The review is intended to evaluate whether appropriate research activities are ongoing or imminent, or if these designated areas are unused for their intended purpose of improving habitat science. Specific questions NMFS will consider in the evaluation include:

• Is there active research being conducted in the DHRA?

• Is it anticipated that it will continue beyond this fishing year?

• Is there potential research currently in the permitting process at the Greater Atlantic Regional Fisheries Office or other entities, e.g., Stellwagen Bank National Marine Sanctuary?

• Is there potential research currently in the funding process?

• Is there a high likelihood that the project will be funded?

• Are the fishing restrictions associated with the DHRA designation an explicit part of the design of the project?

• Is there potential research [at some other critical stage in the idea—funding process]?

Following the review and evaluation of the DHRAs, including information provided through this notice and request, and in consultation with the Council, the Regional Administrator will determine whether the DHRAs should be maintained or removed. Removal of the DHRAs, if warranted, would be completed consistent with the Administrative Procedure Act. Additional information and a flowchart outlining how these questions should be used in the evaluation process can be found on pages 116 and 117 of Volume III of OHA2 (https://www.nefmc.org/library/omnibus-habitat-amendment-2).

The DHRAs are intended to allow coordinated research and to build on past studies and baselines by restricting certain types of fishing to create appropriate reference conditions in the research area and facilitate scientific study. The DHRAs are set up as general closures where project scientists determine study sites and treatments and arrange research fishing activity. The DHRAs are intended to provide opportunities for addressing the following research topics and questions:

1. Gear Impacts

a. How do different types of bottom tending fishing gear (e.g., trawl nets, dredges, hook and line, traps, gillnets, longlines) affect the susceptibility and recovery of physical and biological characteristics of seabed habitat, and how do these impacts collectively influence key elements of habitat including spatial complexity, functional groups, community state, and recovery rates and dynamics?

b. Are our estimates of gear contact with the bottom accurate? Can we develop trawl gear that minimizes contact on the bottom, thereby reducing the potential for gear impacts?

2. Habitat Recovery

a. What recovery models (e.g., successional vs. multiple-stable states) are operant in the region and how resilient are seafloor habitats to disturbance? In other words, how do seafloor habitats recover, and are there thresholds after which habitats have achieved an alternate state and are no longer capable of recovering to their previous, undisturbed condition?

b. Do “small” fishing-caused disturbances surrounded by unimpacted habitat recover more quickly and exhibit greater resilience in contrast to “large” fishing-caused disturbances embedded with small un-impacted patches?

c. When a particular area is fished for the first time vs. subsequent efforts, are these impacts equal per unit effort? Or, is the first pass over an area much more detrimental? Conversely, is there a tipping point beyond which the habitat is no longer capable of recovering?

3. Natural Disturbance

a. In the absence of fishing, what are the dynamics of natural disturbance (e.g., major storm events) on seafloor habitat (especially biological components) across five major grain size classes (mud, sand, coarse sand-granule, pebble-cobble, boulder) and across oceanographic regimes? In areas where natural disturbance is high, are signals of the impacts of fishing masked?

4. Productivity

a. How does the productivity of managed species (and prey species) vary across habitat types nested within the range of oceanographic and regional settings? How does this productivity change when habitats are impacted by fishing gear? Do durable mobile bottom-tending gear closures increase fish production? Why are highly productive areas so productive?

NMFS requests information about active and planned research in the DHRAs, the stage of the research, the role of the DHRA in the research, and the relationship of the research to the above DHRA research agenda, if any. Response to this request is voluntary. You may submit written comments via email to Laura.Deighan@noaa.gov with “DHRA Research” in the subject line within 30 days of this notice.

Authority: 16 U.S.C. 1801 et seq.

Dated: July 15, 2022.
Jennifer M. Wallace,
Acting Director, Office of Sustainable Fisheries, National Marine Fisheries Service.

[FR Doc. 2022-15512 Filed 7-19-22; 8:45 am]

BILLING CODE 3510-22-P